DEPARTMENT OF AGRICULTURE

Forest Service

Tongass National Forest; Alaska; Forest Plan Amendment

AGENCY: Forest Service, USDA.

ACTION: Notice of intent to prepare an environmental impact statement.

SUMMARY: The Department of Agriculture, Forest Service, will prepare an environmental impact statement (EIS) that evaluates an amendment to the 2008 Tongass National Forest Plan. The Record of Decision will consider and identify changes, if any, to the current 2008 Forest Plan.

DATES: Comments concerning the scope of the analysis must be received by June 26, 2014. The draft environmental impact statement is expected to be mailed by August 2015, which will begin a 90-day public comment period. Public meetings and subsistence hearings will be scheduled during the 90-day comment period. The Record of Decision is expected to be signed by August 2016.

ADDRESSES: Send written comments to: Forest Supervisor, Tongass National Forest, Attn: Forest Plan Amendment, 648 Mission Street Ketchikan, AK 99901. Comments may also be sent via email to: comments-alaska-tongass@fs.fed.us, or via facsimile to (907) 772-5895.

FOR FURTHER INFORMATION CONTACT: Additional information is available on the Tongass Forest Plan Internet site at http://www.fs.usda.gov/land/tongass/landmanagement. General and specific comments on the amendment can be submitted online at this Internet site. Questions about the project can be also directed to Rick Abt, Operations and Planning Staff Officer, (Telephone 907-228-6289, or email rabt@fs.fed.us). Written inquiries can be directed to: Forest Supervisor, Tongass National Forest, Attn: Forest Plan Amendment, 648 Mission Street Ketchikan, AK 99901.

Individuals who use telecommunication devices for the deaf (TDD) may call the Federal Information Relay Service (FIRS) at 1-800-877-8339 between 8 a.m. and 8 p.m., Eastern Time, Monday through Friday.

SUPPLEMENTARY INFORMATION: On July 2, 2013, Secretary of Agriculture Thomas Vilsack issued Memorandum 1044-009, Addressing Sustainable Forestry in Southeast Alaska. The Memorandum expresses the Secretary's intent to transition the Tongass National Forest to a more ecologically, socially, and economically sustainable forest management program:

To conserve the Tongass National Forest under the principles of the Multiple-Use Sustained-Yield Act of 1960, Tongass Timber Reform Act and other relevant statutes, we must speed the transition away from old-growth timber harvesting and towards a forest industry that utilizes second growth—or young growth—forests. Moreover, we must do this in a way that preserves a viable timber industry that provides jobs and opportunities for residents of Southeast Alaska. . . USDA's goal is to effectuate this transition over the next 10 to 15 years, so that at the end of this period the vast majority of timber sold by the Tongass will be young growth.

The Secretary's Memorandum also asks the Forest Service to take several steps needed to achieve this goal, including:

Strongly consider whether to pursue an amendment to the Tongass Forest Plan. Such an amendment would evaluate which lands will be available for timber harvest, especially young growth timber stands, which lands should be excluded, and additional opportunities to promote and speed transition to young growth management.

The Forest Service has also recently completed a 5-year review of the Tongass National Forest Land and Resource Management Plan (Forest Plan). Based on that review and the Secretary's Memorandum, the Forest Service has determined that the Forest Plan needs to be changed to accomplish the transition to a timber sale program on the Tongass based primarily on young growth management within the next 10 to 15 years, while maintaining a viable timber industry and increasing the use of young growth, as specified by the Secretary in Memorandum 1044-009. The Forest Service is initiating the process to amend the Forest Plan under the forest planning regulations found at 36 CFR part 219. As called for in the Secretary's Memorandum, the Forest Service is establishing an advisory committee under the Federal Advisory Committee Act to provide advice on how to expedite the transition to young growth management, which may include advice on how to amend the Forest Plan.

Purpose and Need for Action

The Forest Service is preparing an Environmental Impact Statement (EIS) to describe the effects of making proposed changes to the Tongass Forest Plan to accomplish the transition to young growth management as provided in the Secretary's Memorandum. The Forest Service will evaluate which lands should be available for timber harvest, especially young growth timber stands, and any proposed changes to standards and guidelines and other management direction to promote and speed the transition to young growth management while maintaining a viable timber industry in Southeast Alaska. It will also evaluate other changes suggested in the 5-year review.

Proposed Action

The Forest Service proposes to amend the Tongass Forest Plan, using the 2012 Planning Rule, as needed to accomplish the transition to young growth management over the next 10 to 15 years while retaining the expertise and infrastructure of a viable timber industry in Southeast Alaska, as outlined by the Secretary in Memorandum 1044-009. The amendment process will address: Identifying areas suitable and not suitable for timber harvest to achieve the transition to young growth management; whether the Tongass needs to be able to harvest young growth forest stands before they reach their maximum rate of growth; what changes in management direction should be made to promote young growth management; whether the inventory of roadless areas should be updated, which may require additional rulemaking; whether changes are needed to provide for development of hydropower; updating the upper limit on the quantity of timber that may be sold from the Tongass to reflect other changes made; and how to modify the monitoring provisions of the Plan as required by the 2012 Planning Rule, including identifying focal species to monitor instead of management indicator species as required by the former planning regulations. The amendment process may address other topics relevant to promoting and speeding the transition to young growth management. It is not expected that changes made to the Tongass Forest Plan will affect the overall integrity of the Plan's conservation strategy.

Responsible Official

The Forest Supervisor of the Tongass National Forest is the Responsible Official for this amendment.

Nature of Decision To Be Made

The Responsible Official will decide what changes to make to the Tongass Forest Plan to accomplish the transition to young-growth management as directed by the Secretary in Memorandum 1044-009.

Scoping Process

This notice of intent initiates the scoping process, which guides the development of the environmental impact statement. A variety of methods will be used to notify and involve the public. One of the primary methods for communicating with the public will be through a Forest Planning Web site. This site will include a variety of information about the Forest Plan Amendment process, including descriptions of the planning process, work products and evaluation reports, newsletters, draft and final EIS, and other key documents. The posting of work products and evaluation reports throughout the process will be accompanied by a request for public comment and a defined public comment period. In this way, public participation will be an ongoing process and public input through comments will influence the process as it evolves. The Web site will also provide electronic methods for providing comments (email or direct on-line entry) and may be used for public open houses or hearings. It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: May 15, 2014.
Forrest Cole,
Tongass Forest Supervisor.

[FR Doc. 2014-12061 Filed 5-23-14; 8:45 am]

BILLING CODE 3410-11-P